DEPARTMENT OF EDUCATION

[CFDA 84.184B]

Mentoring Programs; Notice Inviting Applications for New Awards for Fiscal Year (FY) 2002

Purpose of Program: This program provides assistance to promote mentoring programs for children with greatest need that: (1) Assist these children in receiving support and guidance from a mentor; (2) improve the academic performance of the children; (3) improve interpersonal relationships between the children and their peers, teachers, other adults, and family members; (4) reduce the dropout rate of the children; and (5) reduce the children's juvenile delinquency and involvement in gangs.

Eligible Applicants: (1) Local educational agencies (LEAs); (2) nonprofit, community-based organizations (CBOs), which may include faith-based organizations; and (3) a partnership between an LEA and a CBO.

Note: We strongly encourage partnerships between LEAs and CBOs that propose school-based mentoring programs.

Applications Available: May 24, 2002.

Deadline for Transmittal of Applications: July 2, 2002.

Deadline for Intergovernmental Review: September 2, 2002.

Estimated Available Funds: $17,500,000.

Estimated Range of Awards: $100,000-$200,000.

Estimated Average Size of Awards: $150,000.

Estimated Number of Awards: 115.

Note: The Department is not bound by any estimates in this notice.

Project Period: Up to 36 months.

Applicable Regulations: (a) The Education Department General Administrative Regulations (EDGAR) in 34 CFR parts 74, 75, 77, 79, 80, 81, 82, 85, 97, 98, and 99; and (b) the final priorities, selection criteria and definitions for this grant competition as published in this notice.

Priorities

Statutory Priority: This competition focuses exclusively on projects designed to meet the statutory priority in section 4130(b)(5)(B) of the Elementary and Secondary Education Act (ESEA), as amended by the No Child Left Behind Act of 2001.

To be eligible for funding, a project must propose mentoring programs and activities to serve children with the greatest need living in rural areas, high-crime areas, troubled home environments, or who attend schools with violence problems.

For FY 2002 this priority is an absolute priority. Under 34 CFR 75.105(c)(3) we consider only applications that meet this priority.

Competitive Preference Priority: Within the statutory priority for this competition for FY 2002, we will award five additional points to novice applicants. These points are in addition to any points the application earns under the selection criteria for this program.

Note: The total number of points an application may earn is 105.

Requirements

Projects funded under this priority must—

(A) Link children with mentors who—

(i) Have received training and support in mentoring;

(ii) Have been screened using appropriate reference checks, child and domestic abuse record checks, and criminal background checks; and

(iii) Are interested in working with children with greatest need;

(B) Be designed to achieve one or more of the following goals with respect to children with greatest need:

(i) Provide general guidance.

(ii) Promote personal and social responsibility.

(iii) Increase participation in, and enhance the ability to benefit from, elementary and secondary education.

(iv) Discourage illegal use of drugs and alcohol, violence, use of dangerous weapons, promiscuous behavior, and other criminal, harmful, or potentially harmful activity.

(v) Encourage participation in community service and community activities.

(vi) Encourage setting goals and planning for the future, including encouragement of graduation from secondary school and planning for postsecondary education or training.

(vii) Discourage involvement in gangs.

Grant funds must be used for activities that establish or implement a mentoring program, which may include:

1. Hiring of mentoring coordinators and support staff;

2. Providing for the professional development of mentoring coordinators and support staff;

3. Recruitment, screening, and training of mentors;

4. Reimbursement to schools, if appropriate, for the use of school materials or supplies in carrying out the mentoring program;

5. Dissemination of outreach materials; and

6. Evaluation of the mentoring program using scientifically based methods.

Participation by Private School Children and Teachers

LEAs that receive a Mentoring Programs grant are required to provide for the equitable participation of eligible private school students and their teachers or other educational personnel. In order to ensure that grant program activities address the needs of private school children, timely and meaningful consultation with appropriate private school officials must occur during the design and development of the program. Administrative direction and control over grant funds must remain with the grantee.

Maintenance of Effort

An LEA may receive a grant under Mentoring Programs only if the State educational agency finds that the combined fiscal effort per student or the aggregate expenditures of the agency and the State with respect to the provision of free public education by the agency for the preceding fiscal year was not less than 90 percent of the combined fiscal effort or aggregate expenditures for the second preceding fiscal year.

Prohibited Uses of Funds

Grant funds may not be used to (1) directly compensate mentors; (2) obtain educational or other materials or equipment that would otherwise be used in the ordinary course of the grantee's operations; or (3) support litigation of any kind.

Participation of Faith-based Organizations

Faith-based organizations are eligible to apply for grants under this competition provided they meet all statutory and regulatory requirements.

General Information

The Assistant Secretary may take into consideration the geographic distribution of the projects, including urban and rural locations, in addition to the rank order of applicants. To the extent practicable, the Assistant Secretary will select not less than one grant recipient from each State for which there is an eligible entity that submits an application of sufficient quality. Contingent upon the availability of funds, the Assistant Secretary may make additional awards in FY 2003 from the rank-ordered list of unfunded applications from this competition.

Application Requirements

Applications submitted under this program must include the following:

(1) A description of the plan for the mentoring program the eligible entity proposes to carry out;

(2) Information on the children expected to be served by the mentoring program;

(3) A description of the mechanism the eligible entity will use to match children with mentors based on the needs of the children;

(4) Information regarding how mentors and children will be recruited to the mentoring program;

(5) Information regarding how prospective mentors will be screened;

(6) Information on the training that will be provided to mentors; and

(7) Information on the system that the eligible entity will use to manage and monitor information relating to the mentoring program's:

(i) Reference checks;

(ii) Child and domestic abuse record checks;

(iii) Criminal background checks; and

(iv) Procedure for matching children with mentors.

Assurances

Applicants must provide the following assurances:

(1) An assurance that no mentor will be assigned to mentor so many children that the assignment will undermine the mentor's ability to be an effective mentor or the mentor's ability to establish a close relationship (a one-to-one relationship, where practicable) with each mentored child;

(2) An assurance that the mentoring program will provide children with a variety of experiences and support, including—

(i) Emotional support;

(ii) Academic assistance; and

(iii) Exposure to experiences that the children might not otherwise encounter on their own;

(3) An assurance that the mentoring program will be monitored to ensure that each child assigned a mentor benefits from that assignment and that the child will be assigned a new mentor if the relationship between the original mentor and the child is not beneficial to the child;

(4) An assurance from each CBO submitting an application that it is eligible under the definitions provided.

Definitions

(1) The term “child with greatest need” means a child who is at risk of educational failure, dropping out of school, or involvement in criminal or delinquent activities, or who lacks strong positive role models.

(2) The term “mentor” means a responsible adult, a postsecondary school student, or a secondary school student who works with a child to—(a) Provide a positive role model for the child; (b) Establish a supportive relationship with the child; and (c) Provide the child with academic assistance and exposure to new experiences and examples of opportunity that enhance the ability of the child to become a responsible adult.

(3) The term “non-profit” refers to a school, agency, organization, or institution owned and operated by one or more nonprofit corporations or associations, no part of the net earnings of which inures, or may lawfully inure, to the benefit of any private shareholder or individual.

(4) The term “community-based organization” means a public or private nonprofit organization of demonstrated effectiveness that is representative of a community or significant segments of a community and provides educational or related services to individuals in the community.

(5) The term “novice applicant” means any applicant for a grant from the U.S. Department of Education that:

(a) Has never received a grant or subgrant under the program from which it seeks funding;

(b) Has never been a member of a group application, submitted in accordance with 34 CFR 75.127-75.129, that received a grant under the program from which it seeks funding; and

(c) Has not had an active discretionary grant from the Federal Government in the five years before the deadline date for applications under the program. For the purposes of this requirement, a grant is active until the end of the grant's project or funding period, including any extensions of those periods that extend the grantee's authority to obligate funds.

In the case of a group application submitted in accordance with 34 CFR 75.127-75.129, to qualify as a novice applicant a group includes only parties that meet the requirements listed above.

Selection Criteria: The Assistant Secretary will use the following selection criteria to evaluate applications under this competition. The maximum score for all of these criteria is 100 points. The maximum score for each criterion is indicated in parentheses.

(1) Need for project. (10 points)

In determining the need for the proposed project, the following factors are considered:

(a) The magnitude of the need for the services to be provided or the activities to be carried out by the proposed project. (10 points)

(2) Quality of the project design. (55 points)

In determining the quality of the design of the proposed project, the following factors are considered:

(a) The extent to which the goals, objectives, and outcomes to be achieved by the proposed project are clearly specified and measurable; (5 points)

(b) The extent to which parents, teachers, community-based organizations, and the local community have participated, or will participate, in the design and implementation of the proposed mentoring program; (5 points)

(c) The quality of the system that will be used to manage and monitor mentor reference checks, including child and domestic abuse record checks and criminal background checks; (15 points)

(d) The quality of the training that will be provided to mentors, including follow-up and support of each match between mentor and child; (10 points)

(e) The quality of the mechanism that will be used to match children with mentors, based on the needs of the children, and ensure that mentors will develop longstanding relationships with the children they mentor; (5 points)

(f) The extent to which the proposed project will serve children with the greatest need in the 4th and 8th grades, and continue to serve children from the 9th grade through graduation from secondary school, as needed; (5 points)

(g) The capability of the applicant to effectively implement its mentoring program; (5 points)

(h) The resources that will be dedicated to providing children with opportunities for job training or postsecondary education. (5 points)

(3) Quality of project personnel. (20 points)

In determining the quality of project personnel, the Secretary considers:

(a) The extent to which the applicant encourages applications for employment from persons who are members of groups that have traditionally been underrepresented based on race, color, national origin, gender, age, or disability; (5 points)

(b) The qualifications, including relevant training and experience, of key project personnel; (5 points)

(c) The quality of the plan to recruit mentors. (10 points)

(4) Quality of the project evaluation. (15 points)

In determining the quality of the evaluation, the following factors are considered:

(a) The extent to which the methods of evaluation are thorough, feasible, and appropriate to the goals, objectives, and outcomes of the proposed project; (10 points)

(b) The extent to which the methods of evaluation will provide performance feedback and permit periodic assessment of progress toward achieving intended outcomes. (5 points)

Waiver of Proposed Rulemaking: Under the Administrative Procedure Act (5 U.S.C. 553), the Secretary generally offers interested parties the opportunity to comment on proposed rules. Section 437(d)(1) of the General Education Provisions Act, however, exempts from this requirement rules that apply to the first competition under a new or substantially revised program authority. This is the first competition under the Mentoring Programs grant competition. These rules will apply to this FY 2002 grant competition only.

For Applications and Other Information Contact: Copies of the application for this competition are available from EDPubs at 1-877-4EDPubs, and on the Internet at http:­//www.ed.gov/offices/OESE/SDFS. For all other questions, please contact Bryan Williams, U.S. Department of Education, 400 Maryland Avenue, SW, Room 3E259, Washington, DC 20202-6123. Telephone: (202) 260-2391. Email address: bryan.williams@ed.gov.

If you use a telecommunications device for the deaf (TDD), you may call the Federal Information Relay Service (FIRS) at 1-888-877-8339.

Individuals with disabilities may obtain this document, or an application package in an alternative format (e.g., Braille, large print, audiotape, or computer diskette) on request to the contact person listed at the beginning of this section. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF, you must have the Adobe Acrobat Reader, which is available free at this site. If you have questions about using PDF, call the U.S. Government Printing Office (GPO) toll free at (888) 293-6498; or in the Washington, DC area at (202) 512-1530.

Note: The official version of this document is the document published in the Federal Register. Free Internet access to the official edition of the Federal Register and the Code of Federal Regulations is available on GPO Access at: http://www.access.gpo.gov/nara/index.html

Pilot Project for Electronic Submission of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

In FY 2002, the U.S. Department of Education is continuing to expand its pilot project of electronic submission of applications to include additional formula grant programs and additional discretionary grant competitions. The Mentoring Program is one of the programs included in the pilot project. If you are an applicant under this grant competition, you may submit your application to us in either electronic or paper format.

The pilot project involves the use of the Electronic Grant Application System (e-APPLICATION, formerly e-GAPS) portion of the Grant Administration and Payment System (GAPS). We request your participation in this pilot project. We will continue to evaluate its success and solicit suggestions for improvement.

If you participate in this e-APPLICATION pilot, please note the following:

• Your participation is voluntary.

• You will not receive any additional point value or penalty because you submit a grant application in electronic of paper format.

• You can submit all documents electronically, including the Application for Federal Assistance (ED 424), Budget Information—Non-Construction Programs, (ED 524), and all necessary assurances and certifications.

• Within three working days of submitting your electronic application, fax a signed copy of the Application for Federal Assistance (ED 424) to the Application Control Center after following these steps:

1. Print ED 424 from the e-APPLICATION system.

2. Make sure that the institution's Authorized Representative signs this form.

3. Before faxing this form, submit your electronic application via the e-APPLICATION system. You will receive an automatic acknowledgement, which will include a PR/Award number (an identifying number unique to your application).

4. Place the PR/Award number in the upper right corner of the ED 424.

5. Fax ED 424 to the Application Control Center at (202) 260-1349.

• We may request that you give us original signatures on all other forms at a later date.

You may access the electronic grant application for Mentoring Programs at http://e-grants.ed.gov.

We have included additional information on the e-APPLICATION pilot project (see Parity Guidelines between Paper and Electronic Applications) in the application package.

If you want to apply for a grant and be considered for funding, you must meet the deadline requirements listed above.

Program Authority: 20 U.S.C. 7140.

Dated: May 16, 2002.
Susan B. Neuman,
Assistant Secretary for Elementary and Secondary Education.

[FR Doc. 02-13161 Filed 5-23-02; 8:45 am]

BILLING CODE 4000-01-P